DEPARTMENT OF TRANSPORTATION

National Highway Traffic Safety Administration

[Docket No. NHTSA-2001-8842; Notice 1]

General Motors Corporation; Receipt of Application for Decision of Inconsequential Noncompliance

General Motors Corporation (GM) of Warren, Michigan, has determined that it has manufactured approximately 33,916 vehicles that fail to comply with Federal Motor Vehicle Safety Standard (FMVSS) No. 225, “Child Restraint Anchorage Systems,” and has filed an appropriate report pursuant to 49 CFR Part 573, “Defects and Noncompliance Reports.” GM has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgement concerning the merits of the petition.

FMVSS No. 225 establishes requirements for child restraint anchorage systems to ensure their proper location and strength for the effective securing of child restraints, to reduce the likelihood of the anchorage systems' failure, and to increase the likelihood that child restraints are properly secured and thus more fully achieve their potential effectiveness in motor vehicles. S15.1.2 of the standard prescribes the dimensions and location of the anchorages. Specifically, S15.1.2.1(a) requires that the lower anchorages be 6 mm ± 0.1 mm in diameter.

GM has determined that certain vehicles it has manufactured have lower anchorages that do not meet the requirements of S15.1.2.1(a). The vehicles containing the noncompliance are certain 2001 Model Year Chevrolet Venture, Oldsmobile Silhouette, Pontiac Montana and Aztek model vehicles. Approximately 17,377 Pontiac Aztecs and 5,215 Pontiac Montanas, 8,370 Chevrolet Ventures, and 2,954 Oldsmobile Silhouette (U-vans) were built with lower anchorage bars whose diameter are either above or below the required 6.0 ± 0.1 mm.

GM supports its application for inconsequential noncompliance with the following:

In the case of the Aztek, this condition was caused by the inadvertent release of component drawings that allowed the lower anchorage bar material to be supplied out of compliance. For the U vans and Azteks, it was not originally known that the coating process for the lower anchorage bar was not capable of holding the required tolerance. As a result, some of the lower anchorages of the subject vehicles do not meet the diameter specification.

These lower anchorages do, however, meet all of the location, strength and marking requirements of FMVSS 225. In the static strength test, the lower anchor bars are the first structural parts to deform. The static strength performance requirements of the standard are met even though anchor bars that meet the diameter specification fully deform in the static strength test. Based on analysis, the smallest diameter bars will not deform any more than those that meet the diameter requirement and, therefore, the static strength performance requirements for the lower anchorages will still be met. The ultimate load potential of the seat/vehicle system is not affected by the smaller diameter anchor bars because the bars are not the load limiting component.

The purpose of the diameter specification is to ensure compatibility with child restraints that contain the new LATCH attachment mechanisms. Child restraint manufacturers currently offer to U.S. customers two child seats with LATCH attachment mechanisms: the Fisher Price Safe Embrace and the Cosco Triad. Both of these child seats use a hook mechanism to attach to the lower anchorage bars. This hook mechanism has the same configuration and geometry as the top tether hook specified in Figure 11 of FMVSS 213. Based on our examination of these hooks, the integrity and performance of the attachment will not be materially affected by the small deviations from the specification for the diameter of the lower anchor. Consistent with our observations about the compatibility of the lower anchors with the available child seats, GM has received no warranty claims or customer complaints about these anchors.

GM personnel have seen other proposed child seats using the LATCH attachment mechanism that may be offered in the United States. GM is not aware of any proposed U.S. child seat latch mechanism that would not be compatible with the anchors on the subject vehicles. Furthermore, all child seats, in addition to the requirements for a latch mechanism, must also be designed to work with the vehicle seat belt system. Therefore, each child seat, whether LATCH compatible or not, will be able to be safely secured to each of these vehicles. We cannot rule out the possibility of an incompatible attachment mechanism in the future. While we do not think it is likely, it is possible that a slotted attachment could be designed and that the slot might be too small to accept some of these anchors that exceed 6.1 mm. To address this situation, GM plans to send a letter to owners to advise them on how to handle such a situation. We do not forsee any problem with future designs and the anchors that are below 5.9 mm.

GM believes that all LATCH equipped child restraints today and those expected in the near future will successfully attach to the lower anchorage bars on these vehicles. The letter will address future issues, if they should occur. As a result, GM believes that this noncompliance with S15.1.2.1 of FMVSS 225 is inconsequential to motor vehicle safety, and therefore, requests the affected vehicles be exempted from the notification, recall and remedy provisions of Section 30120 of the Safety Act.

Interested persons are invited to submit written data, views, and arguments on the application of GM described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below.

Comment closing date: March 22, 2001.

(49 U.S.C. 30118 and 30120; delegations of authority at 49 CFR 1.50 and 501.8)

Issued on: February 13, 2001.
Stephen R. Kratzke,
Associate Administrator for Safety Performance Standards.

[FR Doc. 01-4097 Filed 2-16-01; 8:45 am]

BILLING CODE 4910-59-P